DEPARTMENT OF JUSTICE

Agency Information Collection Activities

[OMB Number 1103-0093]

Extension of a Currently Approved Collection; Comments Requested; COPS Extension Request Form

ACTION: 30-Day Notice of Information Collection Under Review.

The Department of Justice (DOJ) Office of Community Oriented Policing Services (COPS) has submitted the following information collection request to the Office of Management and Budget (OMB) for review and approval in accordance with the Paperwork Reduction Act of 1995. The revision of a currently approved information collection is published to obtain comments from the public and affected agencies. This proposed information collection was previously published in the Federal Register Volume 77, Number 49, page 14829 on March 13, 2012, allowing for a 60-day comment period.

The purpose of this notice is to allow for 30 days for public comment until June 18, 2012. This process is conducted in accordance with 5 CFR 1320.10.

If you have comments especially on the estimated public burden or associated response time, suggestions, or need a copy of the proposed information collection instrument with instructions or additional information, please contact Danielle Ouellette, Department of Justice Office of Community Oriented Policing Services, 145 N Street NE., Washington, DC 20530.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Revision of a Currently Approved Collection.

(2) Title of the Form/Collection: Extension Request Form.

(3) Agency form number, if any, and the applicable component of the Department sponsoring the collection: None. U.S. Department of Justice Office of Community Oriented Policing Services.

(4) Affected public who will be asked or required to respond, as well as a brief abstract: Under the Violent Crime and Control Act of 1994, the U.S. Department of Justice COPS Office would require the completion of the Extension Request Form from law enforcement agencies in order to ensure that those agencies whose COPS grant is set to expire in the near future has the opportunity to request a no-cost extension prior to the grant expiration date if additional time is needed to complete their program requirements.

(5) An estimate of the total number of respondents and the amount of time estimated for an average respondent to respond/reply: It is estimated that approximately 2,500 respondents annually will complete the form within 30 minutes.

(6) An estimate of the total public burden (in hours) associated with the collection: 1,250 total annual burden hours.

If additional information is required contact: Jerri Murray, Department Clearance Officer, United States Department of Justice, Justice Management Division, Policy and Planning Staff, Two Constitution Square, 145 N Street NE., Room 2E-508, Washington, DC 20530.

Jerri Murray,
Department Clearance Officer, PRA, U.S. Department of Justice.

[FR Doc. 2012-12090 Filed 5-17-12; 8:45 am]

BILLING CODE 4410-AT-P